DEPARTMENT OF LABOR

Employment and Training Administration

[TA-W-40,049]

Emerson Electric Co., Daniel Measurement and Control, Inc., Statesboro, Georgia; Notice of Termination of Investigation

Pursuant to section 221 of the Trade Act of 1974, an investigation was initiated on September 17, 2001, in response to a petition filed by a company official on behalf of workers at Emerson Electric Company, Daniel Measurement and Control, Inc., Statesboro, Georgia.

The company official submitting the petition has requested that the petition be withdrawn. Consequently, further investigation in this case would serve no purpose, and the investigation has been terminated.

Signed in Washington, DC this 22nd day of October, 2001.
Linda G. Poole,
Certifying Officer, Division of Trade Adjustment Assistance.

[FR Doc. 01-27797 Filed 11-5-01; 8:45 am]

BILLING CODE 4510-30-M